DEPARTMENT OF COMMERCE

International Trade Administration

[C-475-837; C-489-832]

Carbon and Alloy Steel Wire Rod From Italy and Turkey: Initiation of Countervailing Duty Investigations

AGENCY: Enforcement and Compliance, International Trade Administration, Department of Commerce.

DATES: Effective April 17, 2017.

FOR FURTHER INFORMATION CONTACT: John Corrigan and Yasmin Bordas at (202) 482-7438 and (202) 482-3813, respectively (Italy); Justin Neuman and Omar Qureshi at (202) 482-0486 and (202) 482-5307, respectively (Turkey), AD/CVD Operations, Enforcement and Compliance, International Trade Administration, U.S. Department of Commerce, 1401 Constitution Avenue NW., Washington, DC 20230.

SUPPLEMENTARY INFORMATION:

The Petitions

On March 28, 2017, the Department of Commerce (the Department) received countervailing duty (CVD) Petitions concerning imports of carbon and alloy steel wire rod (wire rod) from Italy and Turkey, filed in proper form on behalf of Gerdau Ameristeel US Inc., Nucor Corporation, Keystone Consolidated Industries, Inc., and Charter Steel (collectively, the petitioners). The CVD Petitions were accompanied by antidumping duty (AD) Petitions concerning imports of wire rod from each of the above countries, in addition to Belarus, the Republic of Korea, the Russian Federation, the Republic of South Africa, Spain, Ukraine, the United Arab Emirates, and the United Kingdom.¹ The petitioners are domestic producers of wire rod.²

¹ See “Carbon and Alloy Steel Wire Rod from Belarus, Italy, the Republic of Korea, the Russian Federation, the Republic of South Africa, Spain, Turkey, Ukraine, United Arab Emirates, and the United Kingdom—Petitions for the Imposition of Antidumping and Countervailing Duties,” dated March 28, 2017 (Petitions).

² Id., Volume I at 2.

On March 31, April 3, and April 4, 2017, the Department requested supplemental information pertaining to certain areas of the Petitions.³ The petitioners filed responses to these requests on April 4 and April 6, 2017.⁴

³ See Letter from the Department, “Petition for the Imposition of Countervailing Duties on Imports of Carbon and Alloy Steel Wire Rod from Italy: Supplemental Questions,” dated March 31, 2017 (Italy CVD Supplemental Questionnaire); see also Letter from the Department, “Petitions for the Imposition of Antidumping and Countervailing Duties on Imports of Carbon and Alloy Steel Wire Rod from Belarus, Italy, the Republic of Korea, the Russian Federation, the Republic of South Africa, Spain, the Republic of Turkey, Ukraine, United Arab Emirates, and the United Kingdom: Supplemental Questions,” dated March 31, 2017 (General Issues Supplemental Questionnaire); see also Letter from the Department “Petition for the Imposition of Countervailing Duties on Imports of Carbon and Alloy Steel Wire Rod from Turkey: Supplemental Questions,” dated April 4, 2017 (Turkey CVD Supplemental Questionnaire).

⁴ See Letter from Petitioners, “Carbon and Alloy Steel Wire Rod from Belarus, Italy, the Republic of Korea, the Russian Federation, the Republic of South Africa, Spain, Turkey, Ukraine, United Arab Emirates, and the United Kingdom—Petitioners' Amendment to Volume XIII Relating to Italy Countervailing Duties,” dated April 4, 2017 (Italy CVD Supplement); see also Letter from Petitioners, “Carbon and Alloy Steel Wire Rod from Belarus, Italy, the Republic of Korea, the Russian Federation, the Republic of South Africa, Spain, Turkey, Ukraine, United Arab Emirates, and the United Kingdom—Petitioners' Amendment to Volume I Relating to General Issues,” dated April 4, 2017 (General Issues Supplement); see also Letter from Petitioners, “Carbon and Alloy Steel Wire Rod from Belarus, Italy, the Republic of Korea, the Russian Federation, the Republic of South Africa, Spain, Turkey, Ukraine, United Arab Emirates, and the United Kingdom—Petitioners' Amendment to Volume XII Relating to Turkey Countervailing Duties,” dated April 6, 2017 (Turkey CVD Supplement).

In accordance with section 702(b)(1) of the Tariff Act of 1930, as amended (the Act), the petitioners allege that the Governments of Italy (GOI) and Turkey (GOT) are providing countervailable subsidies, within the meaning of sections 701 and 771(5) of the Act, to imports of wire rod from Italy and Turkey, respectively, and that such imports are materially injuring, or threatening material injury to, the domestic industry producing wire rod in the United States. Also, consistent with section 702(b)(1) of the Act, for those alleged programs on which we are initiating a CVD investigation, the Petitions are accompanied by information reasonably available to the petitioners supporting their allegations.

The Department finds that the petitioners filed the Petitions on behalf of the domestic industry because the petitioners are interested parties as defined in section 771(9)(C) of the Act. The Department also finds that the petitioners demonstrated sufficient industry support with respect to the initiation of the CVD investigations that the petitioners are requesting.⁵

⁵ See “Determination of Industry Support for the Petition” section, below.

Periods of Investigation

Because the Petitions were filed on March 28, 2017, the period of investigation is January 1, 2016, through December 31, 2016.

Scope of the Investigations

The product covered by these investigations is wire rod from Italy and Turkey. For a full description of the scope of these investigations, see the “Scope of the Investigations,” in Appendix I of this notice.

Comments on Scope of the Investigations

During our review of the Petitions, the Department issued questions to, and received responses from, the petitioners pertaining to the proposed scope to ensure that the scope language in the Petitions would be an accurate reflection of the products for which the domestic industry is seeking relief.⁶

⁶ See General Issues Supplemental Questionnaire; see also General Issues Supplement.

As discussed in the preamble to the Department's regulations, we are setting aside a period for interested parties to raise issues regarding product coverage (scope).⁷ The Department will consider all comments received from interested parties and, if necessary, will consult with the interested parties prior to the issuance of the preliminary determination. If scope comments include factual information (see 19 CFR 351.102(b)(21)) all such factual information should be limited to public information. To facilitate preparation of its questionnaires, the Department requests all interested parties to submit such comments by 5:00 p.m. Eastern Time (ET) on Monday, May 8, 2017, which is the next business day after 20 calendar days from the signature date of this notice. Any rebuttal comments, which may include factual information, must be filed by 5:00 p.m. ET on Thursday, May 18, 2017, which is 10 calendar days from the initial comments deadline.⁸

⁷ See Antidumping Duties; Countervailing Duties; Final Rule, 62 FR 27296, 27323 (May 19, 1997).

⁸ See 19 CFR 351.303(b).

The Department requests that any factual information the parties consider relevant to the scope of the investigations be submitted during this time period. However, if a party subsequently finds that additional factual information pertaining to the scope of the investigations may be relevant, the party may contact the Department and request permission to submit the additional information. All such comments must be filed on the records of each of the concurrent AD and CVD investigations.

Filing Requirements

All submissions to the Department must be filed electronically using Enforcement and Compliance's Antidumping Duty and Countervailing Duty Centralized Electronic Service System (ACCESS).⁹ An electronically filed document must be received successfully in its entirety by the time and date it is due. Documents excepted from the electronic submission requirements must be filed manually (i.e., in paper form) with Enforcement and Compliance's APO/Dockets Unit, Room 18022, U.S. Department of Commerce, 1401 Constitution Avenue NW., Washington, DC 20230, and stamped with the date and time of receipt by the applicable deadlines.

⁹ See 19 CFR 351.303 (for general filing requirements); see also Antidumping and Countervailing Duty Proceedings: Electronic Filing Procedures; Administrative Protective Order Procedures, 76 FR 39263 (July 6, 2011), for details of the Department's electronic filing requirements, which went into effect on August 5, 2011. Information on help using ACCESS can be found at https://access.trade.gov/help.aspx, and a handbook can be found at https://access.trade.gov/help/Handbook%20on%20Electronic%20Filling%20Procedures.pdf.

Consultations

Pursuant to sections 702(b)(4)(A)(i) and (ii) of the Act, the Department notified representatives of the GOI and the GOT of the receipt of the Petitions, and provided representatives of the GOI and the GOT the opportunity for consultations with respect to the CVD Petitions. Consultations with the GOI and the GOT were held at the Department's main building on April 11, 2017. The GOI submitted its consultation comments in writing to the Department on April 13, 2017.¹⁰

¹⁰ See Letter to the Secretary from the Embassy of Italy, dated April 13, 2017.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,¹¹ they do so for different purposes and pursuant to a separate and distinct authority. In addition, the Department's determination is subject to limitations of time and information. Although this may result in different definitions of the like product, such differences do not render the decision of either agency contrary to law.¹²

¹¹ See section 771(10) of the Act.

¹² See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petitions).

With regard to the domestic like product, the petitioners do not offer a definition of the domestic like product distinct from the scope of the investigations. Based on our analysis of the information submitted on the record, we have determined that wire rod, as defined in the scope, constitutes a single domestic like product and we have analyzed industry support in terms of that domestic like product.¹³

¹³ For a discussion of the domestic like product analysis in this case, see Countervailing Duty Investigation Initiation Checklist: Carbon and Alloy Steel Wire Rod from Italy (Italy CVD Initiation Checklist), at Attachment II, Countervailing Duty Investigation Initiation Checklist: Carbon and Alloy Steel Wire Rod from Turkey (Turkey CVD Initiation Checklist), at Attachment II, and Analysis of Industry Support for the Antidumping and Countervailing Duty Petitions Covering Carbon and Alloy Steel Wire Rod from Belarus, Italy, the Republic of Korea, the Russian Federation, South Africa, Spain, Turkey, Ukraine, the United Arab Emirates, and the United Kingdom (Attachment II).These checklists are dated concurrently with this notice and on file electronically via ACCESS. Access to documents filed via ACCESS is also available in the Central Records Unit, Room B8024 of the main Department of Commerce building.

In determining whether the petitioners have standing under section 702(c)(4)(A) of the Act, we considered the industry support data contained in the Petitions with reference to the domestic like product as defined in the “Scope of the Investigations,” in Appendix I of this notice. The petitioners provided 2016 production of the domestic like product for all supporters of the Petitions, and compared this to the total production of the domestic like product for the entire domestic industry.¹⁴ We relied on data the petitioners provided for purposes of measuring industry support.¹⁵

¹⁴ See Volume I of the Petitions, at 3 and Exhibit I-3; see also General Issues Supplement, at 4-5 and Exhibits I-SUPP-4 and I-SUPP-5.

¹⁵ Id. For further discussion, see Italy CVD Initiation Checklist and Turkey CVD Initiation Checklist, at Attachment II.

Our review of the data provided in the Petitions, General Issues Supplement, and other information readily available to the Department indicates that the petitioners have established industry support for the Petitions.¹⁶ First, the Petitions established support from domestic producers (or workers) accounting for more than 50 percent of the total production of the domestic like product and, as such, the Department is not required to take further action in order to evaluate industry support (e.g., polling).¹⁷ Second, the domestic producers (or workers) have met the statutory criteria for industry support under section 702(c)(4)(A)(i) of the Act because the domestic producers (or workers) who support the Petitions account for at least 25 percent of the total production of the domestic like product.¹⁸ Finally, the domestic producers (or workers) have met the statutory criteria for industry support under section 702(c)(4)(A)(ii) of the Act because the domestic producers (or workers) who support the Petitions account for more than 50 percent of the production of the domestic like product produced by that portion of the industry expressing support for, or opposition to, the Petitions.¹⁹ Accordingly, the Department determines that the Petitions were filed on behalf of the domestic industry within the meaning of section 702(b)(1) of the Act.

¹⁶ See Italy CVD Initiation Checklist and Turkey CVD Initiation Checklist, at Attachment II.

¹⁷ See section 702(c)(4)(D) of the Act; see also Italy CVD Initiation Checklist and Turkey CVD Initiation Checklist, at Attachment II.

¹⁸ See Italy CVD Initiation Checklist and Turkey CVD Initiation Checklist, at Attachment II.

¹⁹ Id.

The Department finds that the petitioners filed the Petitions on behalf of the domestic industry because they are interested parties as defined in section 771(9)(C) of the Act and they have demonstrated sufficient industry support with respect to the CVD investigations they are requesting that the Department initiate.²⁰

²⁰ Id.

Injury Test

Because Italy and Turkey are “Subsidies Agreement Countries” within the meaning of section 701(b) of the Act, section 701(a)(2) of the Act applies to these investigations. Accordingly, the ITC must determine whether imports of the subject merchandise from Italy and Turkey materially injure, or threaten material injury to, a U.S. industry.

Allegations and Evidence of Material Injury and Causation

The petitioners allege that imports of the subject merchandise are benefitting from countervailable subsidies and that such imports are causing, or threaten to cause, material injury to the U.S. industry producing the domestic like product. In addition, with regard to Turkey, the petitioners allege that subject imports exceed the negligibility threshold provided for under section 771(24)(A) of the Act.²¹

²¹ See Volume I of the Petitions, at 16-17 and Exhibit I-13.

While the allegedly subsidized imports from Italy do not individually meet the statutory negligibility threshold of three percent, the petitioners allege and provide supporting evidence that there is the potential that imports from Italy will imminently exceed the negligibility threshold and, therefore, are not negligible for purposes of a threat determination.²² The petitioners' arguments regarding the potential for imports to imminently exceed the negligibility threshold are consistent with the statutory criterial for “negligibility in threat analysis” under section 771(24)(A)(iv) of the Act, which provides that imports shall not be treated as negligible if there is a potential that subject imports from a country will imminently exceed the statutory requirements for negligibility.

²² Id., at 18-19 and Exhibit I-13.

The petitioners contend that the industry's injured condition is illustrated by reduced market share; underselling and price suppression or depression; declines in production capacity, net sales, and U.S. producers' average U.S. shipments unit value; negative impacts on domestic industry employment, including declines in wages paid to production-relate workers; declines in financial performance; and lost sales and revenues.²³ We have assessed the allegations and supporting evidence regarding material injury, threat of material injury, and causation, and we have determined that these allegations are properly supported by adequate evidence, and meet the statutory requirements for initiation.²⁴

²³ Id., at 10-12, 23-37, and Exhibits I-8, I-10—I-12, and I-14—I-15.

²⁴ See Italy CVD Initiation Checklist, at Attachment III, Analysis of Allegations and Evidence of Material Injury and Causation for the Antidumping and Countervailing Duty Petitions Covering Carbon and Alloy Steel Wire Rod from Belarus, Italy, the Republic of Korea, the Russian Federation, South Africa, Spain, Turkey, Ukraine, the United Arab Emirates, and the United Kingdom (Attachment III); see also Turkey CVD Initiation Checklist, at Attachment III.

Initiation of CVD Investigations

Section 702(b)(1) of the Act requires the Department to initiate a CVD investigation whenever an interested party files a CVD petition on behalf of an industry that (1) alleges the elements necessary for an imposition of a duty under section 701(a) of the Act and (2) is accompanied by information reasonably available to the petitioners supporting the allegations.

The petitioners allege that producers/exporters of wire rod in Italy and Turkey benefit from countervailable subsidies bestowed by the governments of these countries, respectively. The Department examined the Petitions and finds that they comply with the requirements of section 702(b)(1) of the Act. Therefore, in accordance with section 702(b)(1) of the Act, we are initiating CVD investigations to determine whether manufacturers, producers, and/or exporters of wire rod from Italy and Turkey receive countervailable subsidies from the governments of these countries, respectively.

Under the Trade Preferences Extension Act of 2015, numerous amendments to the AD and CVD laws were made.²⁵ The 2015 law does not specify dates of application for those amendments. On August 6, 2015, the Department published an interpretative rule, in which it announced the applicability dates for each amendment to the Act, except for amendments contained in section 771(7) of the Act, which relate to determinations of material injury by the ITC.²⁶ The amendments to sections 776 and 782 of the Act are applicable to all determinations made on or after August 6, 2015, and, therefore, apply to these CVD investigations.²⁷

²⁵ See Trade Preferences Extension Act of 2015, Public Law 114-27, 129 Stat. 362 (2015).

²⁶ See Dates of Application of Amendments to the Antidumping and Countervailing Duty Laws Made by the Trade Preferences Extension Act of 2015, 80 FR 46793 (August 6, 2015) (Applicability Notice). The 2015 amendments may be found at https://www.congress.gov/bill/114th-congress/house-bill/1295/text/pl.

²⁷ See Applicability Notice, 80 FR at 46794-95.

Italy

Based on our review of the petition, we find that there is sufficient information to initiate a CVD investigation on 14 of the 15 alleged programs. For a full discussion of the basis for our decision to initiate or not initiate on each program, see the Italy CVD Initiation Checklist.

Turkey

Based on our review of the petition, we find that there is sufficient information to initiate a CVD investigation on 21 of the 22 alleged programs. For a full discussion of the basis for our decision to initiate or not initiate on each program, see the Turkey CVD Initiation Checklist.

A public version of the initiation checklist for each investigation is available on ACCESS.

In accordance with section 703(b)(1) of the Act and 19 CFR 351.205(b)(1), unless postponed, we will make our preliminary determination no later than 65 days after the date of this initiation.

Respondent Selection

The petitioners named 13 companies as producers/exporters of wire rod in Italy and 22 in Turkey.²⁸ Following standard practice in CVD investigations, the Department will, where appropriate, select respondents based on U.S. Customs and Border Protection (CBP) data for U.S. imports of wire rod during the POI under the appropriate Harmonized Tariff Schedule of the United States numbers. We intend to release CBP data under Administrative Protective Order (APO) to all parties with access to information protected by APO within five business days of the announcement of the initiation of this investigation. Interested parties must submit applications for disclosure under APO in accordance with 19 CFR 351.305(b). Instructions for filing such applications may be found on the Department's Web site at http://enforcement.trade.gov/apo.

²⁸ See Petition, Volume I at Exhibit I-7.

Interested parties may submit comments regarding the CBP data and respondent selection by 5:00 p.m. ET on the seventh calendar day after publication of this notice. Parties wishing to submit rebuttal comments should submit those comments five calendar days after the deadline for initial comments.

Comments must be filed electronically using ACCESS. An electronically-filed document must be received successfully, in its entirety, by ACCESS no later than 5:00 p.m. ET on the date noted above. If respondent selection is necessary, within 20 days of publication of this notice, we intend to make our decision regarding respondent selection based upon comments received from interested parties and our analysis of the record information.

Distribution of Copies of the Petitions

In accordance with section 702(b)(4)(A)(i) of the Act and 19 CFR 351.202(f), copies of the public version of the Petitions have been provided to the GOI and GOT via ACCESS. To the extent practicable, we will attempt to provide a copy of the public version of the Petitions to each exporter named in the Petitions, as provided under 19 CFR 351.203(c)(2).

ITC Notification

We will notify the ITC of our initiation, as required by section 702(d) of the Act.

Preliminary Determinations by the ITC

The ITC will preliminarily determine, within 45 days after the date on which the Petitions were filed, whether there is a reasonable indication that imports of wire rod from Italy and Turkey are materially injuring, or threatening material injury to, a U.S. industry.²⁹ A negative ITC determination will result in the investigation being terminated.³⁰ Otherwise, this investigation will proceed according to statutory and regulatory time limits.

²⁹ See section 703(a)(2) of the Act.

³⁰ See section 703(a)(1) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). 19 CFR 351.301(b) requires any party, when submitting factual information, to specify under which subsection of 19 CFR 351.102(b)(21) the information is being submitted and, if the information is submitted to rebut, clarify, or correct factual information already on the record, to provide an explanation identifying the information already on the record that the factual information seeks to rebut, clarify, or correct. Time limits for the submission of factual information are addressed in 19 CFR 351.301, which provides specific time limits based on the type of factual information being submitted. Parties should review the regulations prior to submitting factual information in these investigations.

Extension of Time Limits

Parties may request an extension of time limits before the expiration of a time limit established under 19 CFR 351.301, or as otherwise specified by the Secretary. In general, an extension request will be considered untimely if it is filed after the expiration of the time limit established under 19 CFR 351.301 expires. For submissions that are due from multiple parties simultaneously, an extension request will be considered untimely if it is filed after 10:00 a.m. on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm, prior to submitting factual information in this investigation.

Certification Requirements

Any party submitting factual information in an AD or CVD proceeding must certify to the accuracy and completeness of that information.³¹ Parties are hereby reminded that revised certification requirements are in effect for company/government officials, as well as their representatives. Investigations initiated on the basis of petitions filed on or after August 16, 2013, and other segments of any AD or CVD proceedings initiated on or after August 16, 2013, should use the formats for the revised certifications provided at the end of the Final Rule.³² The Department intends to reject factual submissions if the submitting party does not comply with the applicable revised certification requirements.

³¹ See section 782(b) of the Act.

³² See Certification of Factual Information to Import Administration During Antidumping and Countervailing Duty Proceedings, 78 FR 42678 (July 17, 2013) (“Final Rule”); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in this investigation should ensure that they meet the requirements of these procedures (e.g., the filing of letters of appearance as discussed at 19 CFR 351.103(d)).

This notice is issued and published pursuant to sections 702 and 777(i) of the Act.

Dated: April 17, 2017.
Ronald K. Lorentzen,
Acting Assistant Secretary for Enforcement and Compliance.

Appendix I

Scope of the Investigations

The merchandise covered by these investigations are certain hot-rolled products of carbon steel and alloy steel, in coils, of approximately round cross section, less than 19.00 mm in actual solid cross-sectional diameter. Specifically excluded are steel products possessing the above-noted physical characteristics and meeting the Harmonized Tariff Schedule of the United States (HTSUS) definitions for (a) stainless steel; (b) tool steel; (c) high-nickel steel; (d) ball bearing steel; or (e) concrete reinforcing bars and rods. Also excluded are free cutting steel (also known as free machining steel) products (i.e., products that contain by weight one or more of the following elements: 0.1 percent of more of lead, 0.05 percent or more of bismuth, 0.08 percent or more of sulfur, more than 0.04 percent of phosphorous, more than 0.05 percent of selenium, or more than 0.01 percent of tellurium). All products meeting the physical description of subject merchandise that are not specifically excluded are included in this scope.

The products under investigation are currently classifiable under subheadings 7213.91.3011, 7213.91.3015, 7213.91.3020, 7213.91.3093, 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS may also be included in this scope if they meet the physical description of subject merchandise above. Although the HTSUS subheadings are provided for convenience and customs purposes, the written description of the scope of these proceedings is dispositive.

[FR Doc. 2017-08212 Filed 4-25-17; 8:45 am]

BILLING CODE 3510-DS-P